DEPARTMENT OF THE TREASURY

Internal Revenue Service

26 CFR Parts 1, 31, and 301

[TD 10000]

RIN 1545-BP71

Gross Proceeds and Basis Reporting by Brokers and Determination of Amount Realized and Basis for Digital Asset Transactions; Correction

AGENCY: Internal Revenue Service (IRS), Treasury.

ACTION: Final rule; correction.

SUMMARY: This document includes corrections to the final regulations (Treasury Decision 10000) published in the Federal Register on Tuesday, July 9, 2024, regarding information reporting and the determination of amount realized and basis for certain digital asset sales and exchanges.

DATES: These corrections are effective on September 9, 2024.

FOR FURTHER INFORMATION CONTACT: Concerning the final regulations under sections 1001 and 1012, Alexa Dubert or Kyle Walker of the Office of the Associate Chief Counsel (Income Tax and Accounting) at (202) 317-4718; concerning the international sections of the final regulations under sections 3406 and 6045, John Sweeney or Alan Williams of the Office of the Associate Chief Counsel (International) at (202) 317-6933; and concerning the remainder of the final regulations under sections 3406, 6045, 6045A, 6045B, 6050W, 6721, and 6722, Roseann Cutrone of the Office of the Associate Chief Counsel (Procedure and Administration) at (202) 317-5436 (not toll-free numbers).

SUPPLEMENTARY INFORMATION:

Background

The final regulations (TD 10000) subject to these corrections are issued under sections 1001, 1012, 3406, 6045, 6045A, 6045B, 6050W, 6721, and 6722 of the Internal Revenue Code.

Corrections of Publication

Accordingly, FR Doc. 2024-14004 (TD 10000), appearing on page 56480 in the Federal Register of Tuesday, July 9, 2024, is corrected as follows:

1. On page 56488, in the second column, the eighth line from the bottom of the column, is corrected to read “B) and not as a digital asset sale described”;

2. On page 56489, in the first column, the eighth line from the bottom of the first full paragraph is corrected to read “(and not by any customers or investors)”;

3. On page 56490, in the third column, the fourteenth line from the top is corrected to read “these final regulations, provides that”;

4. On page 56499, in the first column, in the eleventh line from the bottom, the word “consequence” is corrected to read “consequences”;

5. On page 56502, in the third column, the nineteenth line from the bottom, is corrected to read “returns under section 6045 is March 31 of the”;

6. On page 56502, in the third column, the tenth line from the bottom, is corrected to read “before the statute of limitations”;

7. On page 56504, in the third column, in the twenty-fourth line of the first full paragraph, the word “stablecoins” is corrected to read, “stablecoin”;

8. On page 56508, in the first column, the fourth line of the continuing paragraph is corrected to read, “According to comments, the average”;

9. On page 56508, in the first column, in the tenth line of the continuing paragraph the word “comment” is corrected to read “comments”;

10. On page 56508, in the first column, the first line of footnote 3 is corrected to read “One comment cited an article that referenced a report from”;

11. On page 56508, in the first column, the fourth and fifth sentences of footnote 3 are corrected to read “Another said: “The data sets underlying these estimates consist of public blockchain data regarding NFT volume, centralized exchange volume, and decentralized exchange volume. See Dune Analytics, https://dune.com/browse/dashboards (last visited October 30, 2023); Dune Analytics, https://github.com/duneanalytics/spellbook/tree/main (last visited October 30, 2023); The Block, https://www.theblock.co/data/cryptomarkets/spot/cryptocurrency-exchange-volumemonthly (last visited Oct. 30, 2023).” “;

12. On page 56508, in the first column, the first line of footnote 4 is corrected to read “One comment referenced data”;

13. On page 56516, in the third column, the third line of the continuing paragraph, “non-U.S. digital asset broker, a”, is removed;

14. On page 56517, in the first column, the twelfth line from the bottom of the continuing paragraph is corrected to read “activities as an MSB was permitted”;

15. On page 56521, in the third column, in the fifth line of the first full paragraph the language “Am.” is corrected to read “Amend”;

16. On page 56536, in the third column, in the eighth line from the bottom of the first full paragraph, the word “stablecoins” is corrected to read “stablecoin”; and

17. On page 56542, in the first column, the sixth sentence of the second full paragraph is corrected to read, “Based on tax return data, only 200 of the 9,700 firms identified as impacted issuers in the upper bound estimate exceed the $41.5 million threshold.”.

Oluwafunmilayo A. Taylor,
Section Chief, Publications and Regulations Section, Associate Chief Counsel, (Procedure and Administration).

[FR Doc. 2024-17946 Filed 8-15-24; 8:45 am]

BILLING CODE 4830-01-P